DEPARTMENT OF AGRICULTURE

Natural Resources Conservation Service

Pine Barren Creek Watershed, Escambia County, AL

AGENCY: Natural Resources Conservation Service (NRCS) in Alabama, U.S. Department of Agriculture.

ACTION: Notice of a Finding of No Significant Impact.

SUMMARY: The Pine Barren Creek Watershed is a federally assisted action authorized for planning under Public Law 83-566, the Watershed Protection and Flood Prevention Act. An environmental assessment was undertaken in conjunction with the development of a watershed plan that outlines alternatives for flood reduction within the City of Atmore, Alabama.

FOR FURTHER INFORMATION CONTACT: Shannon Weaver, Assistant State Conservationist for Natural Resources. (334) 887-4533 or e-mail: shannon.weaver@al.usda.gov.

SUPPLEMENTARY INFORMATION: The Supplemental Watershed Plan describes a plan for reduction of flooding at Atmore, Alabama. The plan will be implemented by providing financial and technical assistance through a local sponsor. The project measures described within the plan will reduce the potential for flooding within the watershed and will also reduce the potential risk to human health and safety. The Environmental Assessment indicates that this Federal action will not cause significant adverse local, regional, or national impacts on the environment.

Dated: February 19, 2008.
Gary Kobylski,
State Conservationist.

Finding of No Significant Impact for Pine Barren Creek Watershed, Escambia County, Alabama, January 2008

Introduction

The Pine Barren Creek Watershed is a federally assisted action authorized for planning under Public Law 83-566, the Watershed Protection and Flood Prevention Act. An environmental assessment was undertaken in conjunction with the development of the supplemental watershed plan. This assessment was conducted in consultation with local, State, and Federal agencies as well as with interested organizations and individuals. The Supplemental Watershed Plan and Environmental Assessment are available for public review at the following locations:

U.S. Department of Agriculture, Natural Resources Conservation Service, 175 Ag Science Drive, Suite A, Brewton, Alabama | Altmore Public Library, 700 E. Church Street, Atmore, Alabama
U.S. Department of Agriculture, Natural Resources Conservation Service, 3381 Skyway Drive, Auburn, Alabama | City Hall, City of Atmore, 201 East Louisville Ave., Atmore, Alabama.
Brewton Public Library, 206 West Jackson Street, Brewton, Alabama.

Recommended Action

The Supplemental Watershed Plan describes a plan for reduction of flooding in Atmore, Alabama. The plan will be implemented by providing financial and technical assistance through a local sponsor.

The principal project measures are to:

1. Deepen an existing channel located in the headwaters of Pine Barren Creek.

2. Install a grade stabilization structure.

3. Modify an existing weir structure.

4. Install reinforced concrete pipe laterals within the residential area of Atmore.

Effects of Recommended Action

The project measures will reduce the potential for flooding within the watershed and will also reduce the potential risk to human health and safety. The modified weir structure will be designed to release no more water than that which was released prior to project implementation. Thus, the creation of additional flow downstream during storm events will be avoided.

Wildlife habitat will not be disturbed during installation of the structural work of this project. No wetlands, wildlife habitat, fisheries, prime farmland, or cultural resources will be destroyed or threatened by this project. The value of woodland habitat will not decline. Fishery habitats will also be maintained.

No endangered or threatened plant or animal species will be adversely affected by the project.

There are no wilderness areas in the watershed.

Alternatives

Five alternative plans were considered in project planning. No significant adverse environmental impacts are anticipated from installation of the selected alternative. Also, the planned action is the most practical and cost effective means of reducing flooding in the watershed.

Consultation—Public Participation

Flooding and water quality concerns in the Pine Barren Creek Watershed were expressed by local citizens, City of Atmore officials, Escambia County Soil and Water Conservation District, and other regional residents. NRCS personnel in partnership with the City of Atmore, explored alternatives to relieve flooding problems, while maintaining water quality in Pine Barren Creek. Two interagency meetings were held to gather input from local, state, and federal government agencies. In addition, two public meetings were held in Atmore to gather public input and concerns.

At the initiation of the planning process, meetings were held between NRCS and the City of Atmore to discuss problem identification and PL-566 requirements. A public meeting was held in June 26, 2003 to scope the problems and concerns and to explain impacts of the PL-566 programinitiatives relative to a watershed project and discuss possible solutions.

In order to further publicize this planning effort, a public announcement was made to State and Federal agencies by letter and to local landowners through local newspapers to announce the change in project purpose.

Evaluations and alternative solutions were developed with the Sponsor and other officials. The Recommended Plan was agreed upon.

Another public meeting was on May 31, 2007. The results of surveys, studies, field investigations and the Alternatives Plans were presented to the public. The Selected Plan was shared with those in attendance.

Based on Field Inspections to determine the quality and quantity of resources that would be impacted by selected practices and to consider possible mitigation measures, it has been determined that an Environmental Impact Statement (EIS) is not needed for this project. Based on the type of practices and systems that are planned, installation on previously disturbed land, an Environmental Assessment (EA) was prepared.

Upon review of the Pine Barren Creek Watershed Plan-EA, this Finding of No Significant Impact (FONSI) was prepared. These documents are being distributed to all concerned agencies, groups, and interested individuals. A Notice of Availability of the FONSI is being published in the Federal Register. Agency consolations and public participation to date has shown no conflicts with the implementation of the selected plan.

Conclusion

The Environmental Assessment summarized above indicates that this Federal action will not cause significant adverse local, regional, or national impacts on the environment. Therefore, based on the above findings, I have determined that an environmental impact statement for the recommended Pine Barren Creek Supplemental Watershed Plan is not required.

Dated: February 19, 2008.
Gary Kobylski,
State Conservationist.

[FR Doc. 08-993 Filed 3-10-08; 8:45 am]

BILLING CODE 3410-16-M